DEPARTMENT OF ENERGY

Federal Energy Regulatory Commission

[Project No. 7548-021]

Notch Butte Hydro Company, Inc., Koosh, Inc.; Notice of Transfer of Exemption

1. By letter filed March 15, 2017, Notch Butte Hydro Company, Inc. informed the Commission that the exemption from licensing for the Geo-Bon #2 Hydropower Project No. 7548, originally issued April 13, 1984 ¹ has been transferred to Koosh, Inc. The project is located on the Little Wood River in Lincoln County, Idaho. The transfer of an exemption does not require Commission approval.

¹ Order Granting Exemption from Licensing of a Small Project of 5 MW or Less. Mr. George Arkoosh, 27 FERC 62,039 (1984).

2. Koosh, Inc. is now the exemptee of the Geo-Bon #2 Hydropower Project No. 7548. All correspondence should be forwarded to: Koosh, Inc., PO Box 59, Gooding, ID 83330.

Dated: May 11, 2017.
Kimberly D. Bose
Secretary.

[FR Doc. 2017-09957 Filed 5-16-17; 8:45 am]

BILLING CODE 6717-01-P